ENVIRONMENTAL PROTECTION AGENCY

40 CFR Part 52

[Docket No., EPA-R02-OAR-2008-0020; FRL-8572-5]

Approval and Promulgation of Implementation Plans; Variance Determination for Particulate Matter from a Specific Source in the State of New Jersey

AGENCY: Environmental Protection Agency.

ACTION: Proposed rule.

SUMMARY: The Environmental Protection Agency (EPA) is proposing to approve a revision to the State Implementation Plan (SIP) submitted by the State of New Jersey. This SIP revision consists of a source-specific reasonably available control technology (RACT) determination for controlling particulate matter from the cooling tower operated by the PSEG Nuclear LLC Hope Creek and Salem Generating Stations. This action proposes an approval of the source-specific variance determination that was made by New Jersey in accordance with the provisions of its rule to help meet the national ambient air quality standards (NAAQS) for particulate matter. The intended effect of this proposed rule is to approve source-specific emissions limitations required by the Clean Air Act.

DATES: Comments must be received on or before June 30, 2008.

ADDRESSES: Submit your comments, identified by Docket Number EPA-R02-OAR-2008-0020, by one of the following methods:

• www.regulations.gov: Follow the on-line instructions for submitting comments.

• E-mail: Werner.Raymond@epa.gov.

• Fax: 212-637-3901.

• Mail: Raymond Werner, Chief, Air Programs Branch, Environmental Protection Agency, Region 2 Office, 290 Broadway, 25th Floor, New York, New York 10007-1866.

• Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30 excluding Federal holidays.

Instructions: Direct your comments to Docket No. EPA-R02-OAR-2008-0020. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region II Office, Air Programs Branch, 290 Broadway, 25th Floor, New York, New York 10007-1866. EPA requests, if at all possible, that you contact the individual listed in the FOR FURTHER INFORMATION CONTACT section to view the hard copy of the docket. You may view the hard copy of the docket Monday through Friday, 8 a.m. to 4 p.m., excluding Federal holidays.

FOR FURTHER INFORMATION CONTACT: Paul Truchan, Air Programs Branch, Environmental Protection Agency, 290 Broadway, 25th Floor, New York, New York 10007-1866, (212) 637-3711 or Truchan.paul@epa.gov.

SUPPLEMENTARY INFORMATION:

Table of Contents

I. EPA's Proposed Action

A. What Action Is EPA Proposing?

B. Why Is EPA Proposing This Action?

C. What Is EPA's Evaluation of New Jersey's SIP Revision?

II. New Jersey's SIP Revision

A. What Are New Jersey's PM Requirements?

B. When Was New Jersey's Variance Determination Proposed and Adopted?

C. When Was New Jersey's SIP Revision Submitted to EPA?

D. What Are EPA's findings?

III. Conclusion

IV. Statutory and Executive Order Reviews

I. EPA's Proposed Action

A. What Action Is EPA Proposing?

EPA is proposing to approve New Jersey's revision to the particulate matter (PM) State Implementation Plan (SIP) submitted on November 2, 2007. This SIP revision relates to New Jersey's PM variance determination for the cooling tower at the PSEG Nuclear LLC Hope Creek and Salem Generating Stations located in Lower Alloways Creek Township, Salem County. As part of this variance evaluation, alternate emission limitations are specified for total suspended particulates (TSP) and PM-10 (particles with an aerodynamic diameter of 10 micrometers or less). This evaluation and variance only involves the operation of the cooling tower.

B. Why Is EPA Proposing This Action?

EPA is proposing this action to:

• Give the public the opportunity to submit comments on EPA's proposed action, as discussed in the DATES and ADDRESSES sections; and

• Fulfill New Jersey's and EPA's requirements under the Clean Air Act (Act); and

• Make New Jersey's variance determination federally-enforceable.

C. What Is EPA's Evaluation of New Jersey's SIP Revision?

EPA has determined that New Jersey's SIP revision for the PM variance for the cooling tower at the PSEG Nuclear LLC Hope Creek and Salem Generating Stations is consistent with New Jersey's PM rule and EPA's guidance. EPA's basis for evaluating New Jersey's SIP revision is whether it meets the SIP requirements described in section 110 of the Act. EPA has determined that New Jersey's SIP revision will not interfere with any applicable requirement concerning attainment or any other applicable requirement of the Act.

After reviewing New Jersey's SIP revision submittal, EPA found it administratively and technically complete. EPA has determined that the TSP and PM-10 emission limits were developed and adopted through a source-specific SIP revision and incorporated into a revision of the source's Title V Operating Permit. The permit contains specific conditions relating to emissions limits, work practice standards, testing, monitoring, and recordkeeping/reporting requirements. These conditions are consistent with the PM requirements specified in Subchapter 6, Control and Prohibition of Particulates from Manufacturing Processes of Chapter 27, Title 7 of the New Jersey Administrative Code and conform to EPA guidance. EPA proposes to approve the conditions contained in the “Facility Specific Requirements” which includes alternative emission limits for the cooling tower. PSEG will comply with the following hourly emission limits: for TSP less than or equal to 42 pounds per hour and for PM-10 (total) less than or equal to 42 pounds per hour. PSEG will comply with the following annual emission limits: for TSP less than or equal to 65.9 tons per year and for PM-10 (total) less than or equal to 65.9 tons per year. In addition to the limits, New Jersey will include other requirements, such as adequate monitoring, recordkeeping, and reporting in the Title V Operating Permit.

II. New Jersey's SIP Revision

A. What Are New Jersey's PM Requirements?

New Jersey's PM requirements are contained in Subchapter 6, Control and Prohibition of Particulates from Manufacturing Processes of Chapter 27, Title 7, of the New Jersey Administrative Code. Section 6.5 of New Jersey's rule establishes a variance procedure should a source not be able to meet the prescribed emission limits for technology reasons. The source must provide the reasons and justifications why the prescribed emission limits cannot be technologically achieved. Any variance issued by New Jersey is conditioned on the source complying with requirements that New Jersey deems necessary. In order for EPA to recognize any variance as Federally enforceable, New Jersey must submit the variance as a revision to its SIP and EPA must approve it through notice and rulemaking.

B. When Was New Jersey's Variance Determination Proposed and Adopted?

New Jersey's variance was proposed on April 3, 2007, with the public hearing held on May 1, 2007. The comment period ended May 3, 2007. New Jersey adopted the variance on August 7, 2007. No verbal comments were received during the public hearing and only PSEG Fossil LLC submitted written comments.

C. When Was New Jersey's SIP Revision Submitted to EPA?

New Jersey's SIP revision was submitted to EPA on November 2, 2007. EPA determined that the submittal was administratively and technically complete on December 19, 2007.

D. What Are EPA's Findings?

The variance request would allow the evaporation rate of the cooling tower to be increased by approximately 20 percent. This would increase the cooling tower particulate matter emissions from the currently permitted value of 29.4 pounds per hour (lbs/hr) to a projected 35.28 lbs/hr, based on the total dissolved solids (TDS) in the cooling water. However, under worst-case conditions of the ambient water salinity, hydrologic conditions, and the tidal hydrodynamics of the Delaware Estuary, which is the water source of the circulating cooling water, the maximum emissions that could be expected from the cooling tower would be 42.0 lbs/hr. Worst-case conditions are projected to occur once in 20 years and to address this occurrence, the new allowable will be set at 42.0 lbs/hr. New Jersey now requires that PSEG sample the circulating water at a minimum of every seven days and analyze it for TDS, which will help ensure that the emission limits are not exceeded.

The cooling tower is currently limited to annual allowable emissions of 129 tons per year (tpy). Based on calculations, the actual annual emissions are only 54.7 tpy. Adjusting for the new cooling rate, the annual emissions are projected to be 65.9 tpy. New Jersey has limited the new annual emissions to 65.9 tpy, instead of the existing limit of 129 tpy.

As part of this variance request, a review was undertaken to determine “state-of-the-art” controls for this type of cooling tower. EPA's RACT/BACT/LAER Clearinghouse, the manufacturer of the existing cooling tower, and internationally available information were consulted on currently available controls and control efficiency for this type of tower. The only currently available controls involve drift eliminators which are already installed and any additions would not be technology feasible due to space constraints. Further, the current drift rate for the cooling tower is lower than the most stringent rate found in EPA's database. There is also no alternative source of makeup water that would result in a decrease in total dissolved solids (TDS), which are contained in the water and are the source of the particulate matter emissions.

The result of air quality modeling analysis predicts that the impact on TSP, PM-10 and PM-2.5 will be below their respective significant impact levels and will not cause or contribute to a violation of a NAAQS, or a prevention of significant deterioration (PSD) Class II increment.

The only comment received on the variance request was from PSEG and involved issues raised at an earlier adjudicatory hearing and did not involve the action being proposed on the cooling tower.

Based on the above findings, EPA proposes to find that requirements for approving a variance request pursuant to the Clean Air Act, EPA guidance and requirements of New Jersey's Subchapter 6 have been satisfied.

III. Conclusion

EPA is proposing to approve the New Jersey SIP revision for an alternative emission limit determination for the PSEG Nuclear LLC Hope Creek and Salem Generating Stations. This SIP revision contains source-specific particulate emission limitations for PSEG Nuclear LLC Hope Creek and Salem Generating Stations. EPA will consider all comments submitted prior to any final rulemaking action.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Particulate matter, Reporting and recordkeeping requirements.

Authority: 42 U.S.C. 7401 et seq.

Dated: May 19, 2008.
Alan J. Steinberg,
Regional Administrator, Region 2.

[FR Doc. E8-11979 Filed 5-28-08; 8:45 am]

BILLING CODE 6560-50-P